DEPARTMENT OF ENERGY

Federal Energy Regulatory Commission

[Docket No. CP11-539-000]

ANR Pipeline Company; Notice of Onsite Environmental Review

On October 11, 2011, the Office of Energy Projects (OEP) staff will be in Portage County, Wisconsin to gather data for the environmental analysis of ANR Pipeline Company's (ANR) Marshfield Reduction Project (Project). The OEP staff will visit the proposed Project's new compressor station site, as well as ANR's proposed alternative sites. The onsite review will assist the staff in completing its evaluation of the environmental impacts of the proposed project. Access to the compressor station site will be from North Sunset Drive.

All interested parties planning to attend must provide their own transportation. Those attending should meet at the following location:

The southwest corner of the Target parking lot, located at 5300 US Highway 10 E, Stevens Point, WI, at 11 a.m.

Please use the Federal Energy Regulatory Commission's free eSubscription service to keep track of all formal issuances and submittals in these dockets. This can reduce the amount of time you spend researching proceedings by automatically providing you with notification of these filings, document summaries, and direct links to the documents. To register for this service, go to http://www.ferc.gov/esubscribenow.htm.

Information about specific onsite environmental reviews is posted on the Commission's calendar at http://www.ferc.gov/EventCalendar/EventsList.aspx. For additional information, contact Office of External Affairs at (866) 208-FERC.

Dated: September 28, 2011.
Kimberly D. Bose,
Secretary.

[FR Doc. 2011-25625 Filed 10-4-11; 8:45 am]

BILLING CODE 6717-01-P